DEPARTMENT OF AGRICULTURE

Forest Service

Northwest Forest Plan Area Advisory Committee

AGENCY: Forest Service, Agriculture (USDA).

ACTION: Notice of meeting.

SUMMARY: The Northwest Forest Plan Advisory Committee will hold a public meeting according to the details shown below. The committee is authorized under the National Forest Management Act and operates in compliance with the Federal Advisory Committee Act (FACA). The purpose of the committee is to provide advice and pragmatic recommendations regarding potential regional scale land management planning approaches and solutions within the Northwest Forest Plan area within the context of the 2012 Planning Rule.

DATES: An in-person and virtual meeting will be held on September 25, 2024, 8:30 a.m. to 4:30 p.m.; September 26, 2024, 8:30 a.m. to 4:30 p.m.; and September 27, 2024, 8:30 a.m. to 12 p.m. Pacific daylight time.

Written and Oral Comments: Anyone wishing to provide in-person oral comments must pre-register by 11:59 p.m. Pacific daylight time on September 13, 2024. Written public comments will be accepted through 11:59 p.m. Pacific daylight time on September 13, 2024. Comments submitted after this date will be provided by the Forest Service to the committee, but the committee may not have adequate time to consider those comments prior to the meeting.

All committee meetings are subject to cancellation. For status of the meeting prior to attendance, please contact the person listed under FOR FURTHER INFORMATION CONTACT.

ADDRESSES: This meeting will be held in-person at Skamania Lodge, 1131 SW Skamania Lodge Way, Stevenson, WA 98648. Committee information and meeting details can be found on the Northwest Forest Plan Federal Advisory Committee website at https://www.fs.usda.gov/detail/r6/landmanagement/planning/?cid=fseprd1076013 or by contacting the person listed under FOR FURTHER INFORMATION CONTACT.

Written Comments: Written comments must be sent by email to sm.fs.nwfp_faca@usda.gov or via mail (postmarked) to Katie Heard, USDA Forest Service, 1220 Southwest 3rd Avenue, Ste. G015, Portland, OR 97204. The Forest Service strongly prefers comments be submitted electronically.

Oral Comments: Persons or organizations wishing to make oral comments must pre-register by 11:59 p.m. Pacific daylight time September 13, 2024, and speakers can only register for one speaking slot. Requests to pre-register for oral comments must be sent by email to sm.fs.nwfp_faca@usda.gov or via mail (postmarked) to Katie Heard, USDA Forest Service, 1220 Southwest 3rd Avenue, Ste. G015, Portland, OR 97204.

FOR FURTHER INFORMATION CONTACT: Jacqueline Buchanan, Designated Federal Officer, by phone at 303-275-5452 or email at Jacqueline.buchanan@usda.gov; or Katie Heard, FACA Coordinator, at Kathryn.Heard@usda.gov.

SUPPLEMENTARY INFORMATION: The purpose of the meeting is to:

1. Provide advice and pragmatic recommendations to the Forest Service regarding updates to the Northwest Forest Plan and implementation strategies.

2. Schedule the next meeting.

The agenda will include time for individuals to make oral statements of three minutes or less. To be scheduled on the agenda, individuals wishing to make an oral statement should make a request in writing at least three days prior to the meeting date. Written comments may be submitted to the Forest Service up to 10 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at 202-720-2600 (voice and TTY) or USDA through the Federal Relay Service at 800-877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the committee. To ensure that the recommendations of the committee have taken into account the needs of the diverse groups served by USDA, membership shall include, to the extent possible, individuals with demonstrated ability to represent the many communities, identities, races, ethnicities, backgrounds, abilities, cultures, and beliefs of the American people, including underserved communities USDA is an equal opportunity provider, employer, and lender.

Dated: August 27, 2024.
Cikena Reid,
USDA Committee Management Officer.

[FR Doc. 2024-19555 Filed 8-29-24; 8:45 am]

BILLING CODE 3411-15-P